DEPARTMENT OF ENERGY

Federal Energy Regulatory Commission

Notice of Commissioner and Staff Attendance at the National Association of Regulatory Utility Commissioners 2013 Summer Committee Meetings

The Federal Energy Regulatory Commission (FERC or Commission) hereby gives notice that members of the Commission and/or Commission staff may attend the following meeting:

FERC/National Association of Regulatory Utility Commissioners Sunday Morning Collaborative, July 21, 2013 (9:00 a.m.-11:45 a.m.), Sheraton Denver Downtown Hotel, 1550 Court Place, Denver, CO 80202.

Further information may be found at http://summer.narucmeetings.org/agenda.cfm

Dated: July 15, 2013.
Kimberly D. Bose,
Secretary.

[FR Doc. 2013-17416 Filed 7-19-13; 8:45 am]

BILLING CODE 6717-01-P